DEPARTMENT OF TRANSPORTATION

Federal Motor Carrier Safety Administration

[Docket No. FMCSA-2007-27389]

Notice of Request for Comments on Renewal of a Currently Approved Information Collection: FMCSA COMPASS Portal Customer Satisfaction Assessment

AGENCY: Federal Motor Carrier Safety Administration (FMCSA), DOT.

ACTION: Notice; request for information.

SUMMARY: In accordance with the Paperwork Reduction Act of 1995, FMCSA announces its plan to submit the new Information Collection Request (ICR) described below to the Office of Management and Budget (OMB) for review and approval. This information collection involves the assessment of FMCSA's strategic decision to integrate its Information Technology (IT) with its business processes using portal technology to consolidate its systems and databases and launch a modernization initiative to create the FMCSA COMPASS Portal. The information to be collected will be used to assess the satisfaction of Federal, State and industry customers with the FMCSA COMPASS Portal. The Agency published a Federal Register notice allowing for a 60-day comment period on the ICR in October 2006 (71 FR 61824, Oct. 19, 2006). The Agency did not receive any comments from the public that were responsive to this notice.

DATES: Please send your comments by May 21, 2007. OMB must receive your comments by this date in order to act quickly on the ICR.

ADDRESSES: You may submit comments to the Office of Information and Regulatory Affairs, Office of Management and Budget, 725 Seventeenth Street, NW., Washington, DC 20503, Attention: DOT/FMCSA Desk Officer.

FOR FURTHER INFORMATION CONTACT: Mr. Bill Coleman, Federal Motor Carrier Safety Administration, 400 Seventh Street, SW., Washington, DC 20590; phone: (202) 366-4440; fax: (202) 493-0679; e-mail: bill.coleman@dot.gov. Office hours are from 9 a.m. to 5 p.m., Monday through Friday, except Federal holidays.

SUPPLEMENTARY INFORMATION: Title: FMCSA Portal Customer Satisfaction Assessment.

OMB Control Number: 2126-xxxx.

Type of Request: Approval of a new information collection.

Respondents: Federal, State, and motor carrier industry customers/users.

Estimated Number of Respondents: 142,691 [140,000 motor carrier industry respondents + 2,691 State government users = 142,691].

Estimated Time per Response: 5 minutes per response.

Frequency of Response: Three times per year (or every 120 days).

Estimated Total Annual Burden: 25,106 hours [(5 minutes to complete survey × 3 times per year/60 minutes × 140,000 annual industry respondents × .70 (70%) response rate = 24,500) + (5 minutes to complete survey × 3 times per year/60 minutes × 2,691 State government users × .90 (90%) response rate) = 25,106].

Background: Title II, section 207 of the E-Government Act of 2002, (Pub. L. 107-347, April 17, 2003) requires Government agencies to improve the methods by which government information, including information on the Internet, is organized, preserved, and made accessible to the public. FMCSA has made a strategic decision to integrate its IT with its business processes as it consolidates its systems and databases and launches a modernization initiative called COMPASS. COMPASS is FMCSA's agency-wide initiative to improve its business processes; integrate them with the Agency's information systems; and make them more seamless, secure, and supportive of the Agency's mission of saving lives in the years to come.

FMCSA's 21 information systems are currently operational. However, having this many stand-alone systems has led to data quality concerns, a need for excessive IDs and passwords, and significant operational and maintenance costs. Integrating our information technologies with our business processes will, in turn, improve our operations considerably, particularly in terms of data quality, ease of use, and reduction of maintenance costs.

In early 2007, FMCSA will launch the first of a series of releases of new IT applications to its Federal, State, and industry customers. Over the coming years, more than 15 releases are planned, with four planned for the next 3 years. These releases will use “portal technology” to pull together numerous services and functions on a single screen and provide tailored services that seek to meet the needs of specific constituencies within our customer universe. The FMCSA COMPASS Portal will entail considerable expenditure of Federal Government dollars over the years and fundamentally impact the nature of the relationship between the Agency and its Federal, State, and industry customers. Consequently, the Agency intends to conduct regular and ongoing assessments of customer satisfaction with COMPASS.

The primary purposes of this assessment are to determine the extent to which newly released FMCSA COMPASS Portal services meet the needs of Agency customers, identify and prioritize additional modifications, and determine the extent that the Portal has affected FMCSA's relationships with its main customer groups. The assessment will address:

• Overall customer satisfaction;

• Customer satisfaction with specific items;

• Performance of contractor (for the system) against established objectives;

• Desired adjustments and modifications to systems;

• Value of investment to FMCSA and DOT;

• Features that customers like best; and

• Customer ideas for improving the site.

Public Comments Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information.

Issued on: April 10, 2007.
D. Marlene Thomas,
Associate Administrator, Administration.

[FR Doc. E7-7410 Filed 4-18-07; 8:45 am]

BILLING CODE 4910-EX-P